OFFICE OF MANAGEMENT AND BUDGET

OMB Final Sequestration Report to the President and Congress for Fiscal Year 2020

AGENCY: Executive Office of the President, Office of Management and Budget.

ACTION: Notice of availability of the OMB Final Sequestration Report to the President and Congress for FY 2020.

SUMMARY: OMB is issuing the OMB Final Sequestration Report to the President and Congress for Fiscal Year 2020 to report on status of 2020 discretionary caps and compliance of enacted 2020 discretionary appropriations legislation with those caps.

DATES: January 21, 2020.

ADDRESSES: The OMB Sequestration Reports to the President and Congress are available on-line on the OMB home page at: https://www.whitehouse.gov/omb/legislative/sequestration-reports-orders/.

FOR FURTHER INFORMATION CONTACT: Thomas Tobasko, 6202 New Executive Office Building, Washington, DC 20503, Email address: ttobasko@omb.eop.gov, telephone number: (202) 395-5745, FAX number: (202) 395-4768. Because of delays in the receipt of regular mail related to security screening, respondents are encouraged to use electronic communications.

SUPPLEMENTARY INFORMATION: Section 254 of the Balanced Budget and Emergency Deficit Control Act of 1985 requires the Office of Management and Budget (OMB) to issue a Final Sequestration Report 15 calendar days after the end of a congressional session. This report meets that requirement and finds that, for fiscal year 2020, enacted appropriations are at or below the defense and non-defense caps after accounting for cap adjustments. As a result, a sequestration of discretionary budget authority is not required in 2020.

Russell T. Vought,
Acting Director.

[FR Doc. 2020-01254 Filed 1-24-20; 8:45 am]

BILLING CODE 3110-01-P